AGENCY FOR INTERNATIONAL DEVELOPMENT

48 CFR Parts 715 and 742

[AIDAR Circular 00-1]

RIN 0412-AA44

Contractor Performance Evaluation

AGENCY: Agency for International Development.

ACTION: Final rule.

SUMMARY: The U.S. Agency for International Development is amending the USAID Acquisition Regulation (AIDAR) to implement its contractor performance evaluation system as a subscriber to the National Institutes of Health (NIH) Contractor Performance System.

EFFECTIVE DATE: July 10, 2000.

FOR FURTHER INFORMATION CONTACT: M/OP/P, Mr. Kenneth Monsess, U.S. Agency for International Development (USAID), 1300 Pennsylvania Ave., N.W., Washington, D.C. 20523. Telephone: (202) 712-4913. E-mail: partperformance@usaid.gov.

SUPPLEMENTARY INFORMATION: The AIDAR is being amended to implement USAID's adoption of the NIH Contractor Performance System. As a corollary to the implementation of this system, USAID has authorized a deviation to the Federal Acquisition Regulation (FAR) to:

1. recognize that USAID personal services contractors are Government personnel with respect to the restriction on the disclosure of contractor performance information in FAR 42.1503(b) when such access is required in the performance of their duties as contracting office personnel and/or in their participation on source evaluation panels; and

2. exempt USAID personal services contracts from the FAR 42.1502(a) requirement for preparing contractor performance evaluations.

The changes made by this Notice are administrative and not considered major rules as defined by E.O. 12866. This Notice will neither impact a substantial number of small entities, nor establish an information collection as contemplated by the Regulatory Flexibility Act and the Paperwork Reduction Act. Because of the nature of this Notice, use of the proposed rule/public comment approach was not considered necessary. USAID has decided to issue this Notice as a final rule; however, the Agency welcomes public comment on the material covered by this Notice or any part of the AIDAR at any time. Comments or questions may be addressed as specified in the FOR FURTHER INFORMATION CONTACT section of the preamble.

List of Subjects in 48 CFR Parts 715 and 742

Government procurement.

Accordingly, for the reasons set out in the preamble, 48 CFR Chapter 7 is amended as follows:

1. The authority citations in Parts 715 and 742 continue to read as follows:

Authority: Sec. 621, Pub. L. 87-195, 75 Stat. 445, (22 U.S.C. 2381) as amended; E.O. 12163, Sept. 29, 1979, 44 FR 56673; 3 CFR, 1979 Comp., p. 435.

SUBCHAPTER C—CONTRACTING METHODS AND CONTRACT TYPES

PART 715—CONTRACTING BY NEGOTIATION

Subpart 715.3—Source Selection

2. In Section 715.305, paragraph (a) is added to read as follows:

715.305 Proposal evaluation.

(a)(1) [Reserved].

(2) USAID shall use the information on offerors made available from the NIH Contractor Performance System to evaluate past performance. (Access to the system by USAID contracting office personnel is authorized by the USAID Past Performance Coordinator, E-mail address: AIDNET: Past Performance@op.spu@aidw/Internet: pastperformance@usaid.gov.)

* * * * *

AIDAR Subchapter G—Contract Management

PART 742—CONTRACT ADMINISTRATION

3. Subpart 742.15 is added to read as follows:

Subpart 742.15—Contractor Performance Information
Sec.
742.1501 [Reserved]
742.1502 Policy.
742.1503 Procedures.

Subpart 742.15—Contractor Performance Information

742.1501 [Reserved]

742.1502 Policy.

(a) USAID contracting officers shall report contractor performance information at least annually, employing the procedures prescribed by the NIH Contractor Performance System. (Access to the system by USAID contracting officer personnel is authorized by the USAID Past Performance Coordinator, E-mail address: AIDNET: Past Performance@op.spu@aidw/Internet: pastperformance@usaid.gov.)

(b) Performance for personal services contracts awarded under AIDAR Appendices D and J shall not be evaluated under the contractor performance reporting procedures prescribed in FAR subpart 42.15.

742.1503 Procedures.

(a) [Reserved]

(b) Personal services contractors shall be recognized as Government personnel for the purposes of the restriction on access to contractor performance information in FAR 42.1503(b).

Dated: May 2, 2000.
Rodney W. Johnson,
Director, Office of Procurement.

[FR Doc. 00-13486 Filed 6-8-00; 8:45 am]

BILLING CODE 6116-01-M